FEDERAL COMMUNICATIONS COMMISSION

Radio Broadcasting Services; AM or FM Proposals to Change the Community of License

AGENCY: Federal Communications Commission.

ACTION: Notice.

SUMMARY: The following applicants filed AM or FM proposals to change the community of license: AIREN BROADCASTING COMPANY, Station KZCC, Facility ID 164090, BMPH-20070523ADS, From MCCLOUD, CA, To TRINIDAD, CA; ALASKA EDUCATIONAL RADIO SYSTEM, INC., Station KABN-FM, Facility ID 93588, BPED-20070516AAB, From KASILOF, AK, To RIDGEWAY, AK; ALASKA EDUCATIONAL RADIO SYSTEM, INC., Station KRAW, Facility ID 93589, BPED-20070516AAC, From STERLING, AK, To RIDGEWAY, AK; ALASKA EDUCATIONAL RADIO SYSTEM, INC., Station KWMD, Facility ID 93248, BPED-20070516AAD, From KASILOF, AK, To RIDGEWAY, AK; BRAGG BROADCASTING CORPORATION, Station KSAR, Facility ID 87970, BPH-20070516ABC, From THAYER, MO, To CHEROKEE VILLAGE, MO; CALL COMMUNICATIONS GROUP, INC., Station WMKL, Facility ID 61087, BMPED-20070521AIL, From KEY LARGO, FL, To HAMMOCKS, FL; CC LICENSES, LLC, Station WREO-FM, Facility ID 54566, BPH-20070530AHG, From ASHTABULA, OH, To MCDONALD, OH; CEDAR COVE BROADCASTING, INC., Station KEZF, Facility ID 84104, BPED-20070514AFO, From EATON, CO, To SOUTH GREELEY, WY; CHAPIN ENTERPRISES, LLC, Station KRKR, Facility ID 54707, BPH-20070419ADV, From LINCOLN, NE, To VALLEY, NE; CHARLES D. HALL, Station NEW, Facility ID 165324, BNPH-20060303ABG, From RANGELY, CO, To CLIFTON, CO; CITICASTERS LICENSES, L.P., Station WKDD, Facility ID 43863, BPH-20070425AGO, From CANTON, OH, To MUNROE FALLS, OH; CITICASTERS LICENSES, L.P., Station WBBG, Facility ID 73309, BPH-20070530AHR, From NILES, OH, To GENEVA-ON-THE-LAKE, OH; CMP HOUSTON-KC, LLC, Station KCMO-FM, Facility ID 6385, BPH-20070531APM, From KANSAS CITY, MO, To SHAWNEE, KS; COCHISE BROADCASTING, LLC, Station NEW, Facility ID 171024, BNPH-20070501AHI, From PATAGONIA, AZ, To TUBAC, AZ; COLLEGE CREEK MEDIA, LLC, Station NEW, Facility ID 164144, BMPH-20070605ABM, From PRESHO, SD, To FORT PIERRE, SD; CSN INTERNATIONAL, Station KNMA, Facility ID 122932, BMPED-20070425AFG, From SOCORRO, NM, To TULAROSA, NM; CSN INTERNATIONAL, Station KWRC, Facility ID 90500, BMPED-20070427AAW, From RAPID CITY, SD, To HERMOSA, SD; CSN INTERNATIONAL, Station KGSF, Facility ID 92987, BMPED-20070430AEP, From ANDERSON, MO, To CENTERTON, AR; EDUCATIONAL MEDIA FOUNDATION, Station NEW, Facility ID 170980, BNPH-20070502AFB, From PITTSBURG, NH, To COLEBROOK, NH; FAMILY WORSHIP CENTER CHURCH, INC., Station WJNS-FM, Facility ID 72816, BPH-20070611AKN, From YAZOO CITY, MS, To BENTONIA, MS; FLINN JR, GEORGE S, Station NEW, Facility ID 171030, BNPH-20070502AEH, From PARAGOULD, AR, To BONO, AR; FLINN JR, GEORGE S, Station NEW, Facility ID 171033, BNPH-20070502AFM, From LINDEN, TN, To WAYNESBORO, TN; FRANKLIN COMMUNICATIONS, INC., Station WJZK, Facility ID 30563, BPH-20070119ACO, From RICHWOOD, OH, To WEST JEFFERSON, OH; GEORGIA EAGLE BROADCASTING, INC., Station WZBX, Facility ID 60213, BPH-20070516AAN, From SYLVANIA, GA, To ROCKY FORD, GA; GREAT SCOTT BROADCASTING, Station WZBH, Facility ID 25003, BMPH-20070511ACZ, From GEORGETOWN, DE, To MILLSBORO, DE; HAWKEYE COMMUNICATIONS, INC., Station KCSI, Facility ID 26456, BPH-20070419ADT, From RED OAK, IA, To TREYNOR, IA; IN PHASE BROADCASTING, INC., Station NEW, Facility ID 170976, BNPH-20070501AAD, From CAMP WOOD, TX, To MOUNTAIN HOME, TX; INDIANA COMMUNITY RADIO CORPORATION, Station NEW, Facility ID 121860, BNPED-19991117ABJ, From MADISONVILLE, KY, To DRAKESBORO, KY; JACKMAN HOLDING COMPANY, LLC, Station NEW, Facility ID 170970, BNPH-20070501AGS, From MARQUAND, MO, To LEADWOOD, MO; JACOM, INC., Station WQBX, Facility ID 60788, BPH-20070604ABL, From ALMA, MI, To FOWLER, MI; JER LICENSES, LLC, Station NEW, Facility ID 170966, BNPH-20070502ACF, From GRAPELAND, TX, To CUNEY, TX; JER LICENSES, LLC, Station NEW, Facility ID 170963, BNPH-20070502AEZ, From FLAGLER, CO, To FORT MORGAN, CO; JER LICENSES, LLC, Station NEW, Facility ID 170964, BNPH-20070502AHB, From KAILUA-KONA, HI, To WAILEA-MAKENA, HI; JIM W. FREELAND, Station WCBL-FM, Facility ID 53944, BPH-20070521AGW, From BENTON, KY, To GRAND RIVERS, KY; KEYMARKET LICENSES, LLC, Station WOGF, Facility ID 13711, BPH-20070510AAY, From EAST LIVERPOOL, OH, To MOON TOWNSHIP, PA; KFCM, INC., Station KFCM, Facility ID 34416, BPH-20070516ABF, From CHEROKEE VILLAGE, AR, To ASH FLAT, AR; KM COMMUNICATIONS, INC., Station NEW, Facility ID 171016, BNPH-20070502ADT, From SWEETWATER, TX, To TRENT, TX; KONA COAST RADIO, LLC, Station NEW, Facility ID 170961, BNPH-20070502AFN, From HUGO, CO, To LIMON, CO; KONA COAST RADIO, LLC, Station NEW, Facility ID 170960, BNPH-20070502AGP, From CHEYENNE WELLS, CO, To HILLROSE, CO; KONA COAST RADIO, LLC, Station NEW, Facility ID 170962, BNPH-20070502AHA, From STRATTON, CO, To CROWLEY, CO; NASHVILLE'S SPORTSRADIO, INCORPORATED, Station WNTC, Facility ID 85772, BPH-20070601BRL, From DRAKESBORO, KY, To CROFTON, KY; NOALMARK BROADCASTING CORPORATION, Station NEW, Facility ID 170989, BNPH-20070502AAM, From ARKADELPHIA, AR, To BISMARCK, AR; PLYMOUTH BROADCASTING, INC., Station WZOC, Facility ID 12999, BPH-20070420ABH, From PLYMOUTH, IN, To WALKERTON, IN; RADIO LAYNE, LLC, Station KDJF, Facility ID 164233, BMPH-20070530AGM, From DELTA JUNCTION, AK, To ESTER, AK; RADIOACTIVE, LLC, Station NEW, Facility ID 164248, BMPH-20070424ABC, From VERNON CENTER, MN, To EAGLE LAKE, MN; RAMAR COMMUNICATIONS II, LTD., Station KSTQ-FM, Facility ID 54684, BPH-20070521AGR, From PLAINVIEW, TX, To NEW DEAL, TX; SOUTH BROADCASTING SYSTEM, INC., Station WZMQ, Facility ID 61646, BPH-20070511AAK, From KEY LARGO, FL, To LEISURE CITY, FL; U.S. STATIONS, LLC, Station KWXE, Facility ID 8149, BPH-20070601ADE, From GLENWOOD, AR, To PEARCY, AR; VIRDEN BROADCASTING CORP., Station WYEC, Facility ID 70277, BMPH-20070510ABF, From KEWANEE, IL, To CAMBRIDGE, IL; WILLIAM S. KONOPNICKI, Station 951109MG, Facility ID 78413, BMPH-20070518AAD, From PINETOP, AZ, To SUPERIOR, AZ; YOUNGERS COLORADO BROADCASTING LLC, Station KEZZ, Facility ID 165959, BMPH-20070119AGT, From WALDEN, CO, To MASONVILLE, CO; ZOE COMMUNICATIONS, INC., Station WGMO, Facility ID 10529, BPH-20070531ATM, From SHELL LAKE, WI, To SPOONER, WI; ZOE COMMUNICATIONS, INC., Station WPLT, Facility ID 5039, BPH-20070531ATT, From SPOONER, WI, To SARONA, WI.

DATES: Comments may be filed through September 7, 2007.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E7-13270 Filed 7-6-07; 8:45 am]

BILLING CODE 6712-01-P